DEPARTMENT OF EDUCATION

Office of Elementary and Secondary Education—Safe and Drug-Free Schools and Communities—National Programs—Federal Activities—Alcohol and Other Drug Prevention Models on College Campuses Grant Competition

AGENCY: Department of Education.

ACTION: Notice of Proposed Priority, Proposed Eligible Applicants, and Proposed Selection Criteria for Fiscal Year (FY) 2000 and Subsequent Years.

SUMMARY: The Secretary announces a proposed priority, proposed eligible applicants, and proposed selection criteria for FY 2000 and, at the discretion of the Secretary, for subsequent years under the Safe and Drug-Free Schools and Communities—National Programs—Federal Activities—Alcohol and Other Drug Prevention Models on College Campuses Grant Competition. The Secretary takes this action to use Federal financial assistance to identify and disseminate models of alcohol and other drug (AOD) prevention at institutions of higher education (IHEs).

DATES: We must receive your comments on or before March 15, 2000.

ADDRESSES: Address all comments about the proposed priority, proposed eligible applicants, and proposed selection criteria to Kimberly Light, US Department of Education, 400 Maryland Avenue, SW, Room 3E222, Washington, DC 20202-6123. If you prefer to send your comments through the Internet, use the following address: comments@ed.gov

You must include the phrase “Alcohol and Other Drug Prevention Models on College Campuses” in the subject line of your electronic message.

FOR FURTHER INFORMATION CONTACT: Kimberly Light, (202) 260-2647. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Invitation to Comment

Interested persons are invited to submit comments and recommendations regarding the proposed priority, proposed eligible applicants, and proposed selection criteria. All comments submitted in response to this notice will be available for public inspection, during and after the comment period, in Room 3E222, 400 Maryland Avenue, SW, Washington, DC, between the hours of 8:30 a.m. and 4:00 p.m., Eastern time, Monday through Friday of each week except Federal holidays.

Assistance to Individuals With Disabilities in Reviewing the Rulemaking Record

On request, the Department supplies an appropriate aid, such as a reader or print magnifier, to an individual with a disability that needs assistance to review the comments. If you want to schedule an appointment for this type of aid, you may call (202) 205-8113 or (202) 260-9895. If you use a TDD, you may call the Federal Information Relay Service (FIRS) at 1-800-877-8339.

General

Alcohol and other drug use are closely related problems that are frequently addressed together as part of comprehensive AOD prevention efforts. However, for the purposes of this competition, the Secretary is interested in making awards separately to IHEs that have innovative, effective programs aimed at alcohol prevention and to IHEs that have innovative, effective programs aimed at other drug prevention. These specific programs should be implemented within the context of a comprehensive AOD prevention effort on campus. IHEs that receive awards will use the funds to maintain, improve, or further evaluate their programs and disseminate information about these programs to other IHEs.

In making awards under this grant program, the Secretary may take into consideration the geographic distribution of the projects and the diversity of activities addressed by the projects in addition to the rank order of applicants.

We will announce the final priority in a notice in the Federal Register. We will determine the final priority after considering responses to this notice and other information available to the Department. This notice does not preclude us from proposing or funding additional priorities, subject to meeting applicable rulemaking requirements.

Note: This notice does not solicit applications. A notice inviting applications under this competition will be published in the Federal Register concurrently with or following the publication of the notice of final priority. The notice inviting applications will specify the date and time by which applications for this competition must be received by the Department. Applications received after that time will not be eligible for funding. Postmarked dates will not be accepted.

Absolute Priority

Under 34 CFR 75.105(c)(3) and the Safe and Drug-Free Schools and Communities Act of 1994, the Secretary proposes to give an absolute preference to applications that meet the following priority and fund under this competition only those applications that meet this absolute priority:

Under this priority, an IHE that wishes to be considered for an award for a model program must identify, propose to maintain, improve, or further evaluate, and propose to disseminate information about an effective alcohol or other drug prevention program currently being used on its campus. Applications must:

(1) Describe an alcohol or other drug prevention program that has been implemented for at least one full academic year on the applicant's campus;

(2) Provide evidence of the effectiveness of the program;

(3) Provide a plan to maintain, improve, or further evaluate the program during the year following award; and

(4) Provide a plan to disseminate information to assist other IHEs in implementing a similar program.

Eligible Applicants

The Secretary proposes that institutions of higher education (IHEs) are the eligible applicants under this competition, and that to be eligible, an IHE must not have received an award under this competition (under either CFDA 84.116X or 84.184N) during the previous two (2) fiscal years.

Selection Criteria

The Secretary proposes to use the following selection criteria to evaluate applications for new grants under this competition. The maximum score for all of these criteria is 100 points. The maximum score for each criterion or factor under that criterion is indicated in parentheses.

(1) Significance (25 points)

In determining the significance of the model, the following factors are considered:

(a) The extent to which the program involves the development or demonstration of innovative strategies that build on, or are alternatives to, existing strategies. (15 points)

(b) The potential replicability of the program, including, as appropriate, the potential for implementation in a variety of settings. (5 points)

(c) The extent to which the results of the program are to be disseminated in ways that will enable others to use the information or strategies. (5 points)

(2) Quality of the Program Design (40 points)

In determining the quality of the design of the program, the following factors are considered:

(a) The extent to which the design of the program reflects up-to-date knowledge from research and effective practice. (20 points)

(b) The extent to which the goals, objectives, and outcomes of the program are clearly specified and measurable. (5 points)

(c) The extent to which the design of the program is appropriate to, and successfully addresses, the needs of the target population or other identified needs. (10 points)

(d) The quality of the plan to maintain, improve, or further evaluate the program. (5 points) In applying the above criteria, the following information is considered:

(1) The quality of the needs assessment and how well this assessment relates to the goals and objectives of the program.

(2) How well the program is integrated within a comprehensive alcohol and other drug prevention effort.

(3) The level of institutional commitment, leadership and support for alcohol and other drug prevention efforts.

(4) The clarity and strength of the institution's alcohol or other drug policies and the extent to which those policies are broadly disseminated and consistently enforced.

(5) The extent to which students and employees are involved in the program design and implementation process.

(6) The extent to which the institution has joined with community leaders to address AOD issues.

(7) If applying to be considered as an alcohol prevention model, what steps the institution is taking to limit alcoholic beverage sponsorship, advertising, and marketing on campus; and what steps are being taken to establish or expand upon alcohol-free living arrangements for students.

(3) Quality of the project evaluation. (35 points)

In determining the quality of the evaluation, the following factors are considered:

(a) The extent to which the methods of evaluation are thorough, feasible, and appropriate to the goals, objectives and outcomes of the program. (10 points)

(b) The extent to which the evaluation data provide evidence of the effectiveness of the program in reducing either alcohol or other drug use, in reducing the problems resulting from either alcohol or other drug use, or in meeting outcome objectives that are associated with reductions in alcohol or other drug use or resulting problems. (25 points)

In applying the above criteria, the following information is considered:

(1) The quality of the evaluation methodology and evaluation instruments.

(2) Whether both process (formative) and outcome (summative) data are included for each year that the program has been implemented, including data collected both before and after initiation of the program.

(3) How evaluation information has been used for continuous improvement of the program.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Program Authority: 20 U.S.C. 7131.

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader Program with Search, which is available free at either of the preceding sites. If you have questions about using the PDF, call the U.S. Government Printing Office (GPO), toll free, at 1-888-293-6498; or in the Washington, DC area at (202) 512-1530.

Note: The official version of this document is the document published in the Federal Register. Free Internet access to the official edition of the Federal Register and the Code of Federal Domestic Regulations is available on GPO Access at: http://www.access. gpo.gov/nara/index.html

(Catalogue of Federal Domestic Assistance Number 84.184N, Office of Elementary and Secondary Education-Safe and Drug-Free Schools and Communities-National Programs-Federal Activities-Alcohol and Other Drug Prevention Models on College Campuses Grant Competition)

Dated: February 8, 2000.
Michael Cohen,
Assistant Secretary for Elementary and Secondary Education.

[FR Doc. 00-3386 Filed 2-11-00; 8:45 am]

BILLING CODE 4000-01-U